DEPARTMENT OF ENERGY

Federal Energy Regulatory Commission

[Docket No. CP21-44-000]

LA Storage, LLC; Notice of Availability of the Final Environmental Impact Statement for the Proposed Hackberry Storage Project

The staff of the Federal Energy Regulatory Commission (FERC or Commission) has prepared a final environmental impact statement (EIS) for the Hackberry Storage Project (Project), proposed by LA Storage, LLC (LA Storage) in the above-referenced docket. LA Storage requests authorization to construct and operate natural gas storage and transmission facilities in Louisiana. The Project is designed to provide 20.03 billion cubic feet of working gas storage capacity and 1.5 billion cubic feet per day of gas deliverability and injectability, and interconnecting with the Cameron Interstate Pipeline (CIP) facilities operated by Cameron Interstate Pipeline, LLC and the Port Arthur Pipeline Louisiana Connector (PAPLC) facilities to be operated by Port Arthur Pipeline, LLC.

The final EIS assesses the potential environmental effects of the construction and operation of the Project in accordance with the requirements of the National Environmental Policy Act. FERC staff concludes that approval of the proposed Project, with the mitigation measures recommended in the EIS, would result in some adverse environmental impacts; however, with the exception of climate change impacts, those impacts would not be significant. The EIS does not characterize the Project's greenhouse gas emissions as significant or insignificant because the Commission is conducting a generic proceeding to determine whether and how the Commission will conduct climate change significance determinations going forward.¹

¹ Consideration of Greenhouse Gas Emissions in Natural Gas Infrastructure Project Reviews, 178 FERC ¶ 61,108 (2022); 178 FERC ¶ 61,197 (2022).

The final EIS addresses the potential environmental effects of the construction and operation of the following Project facilities: The Project would involve the conversion of three existing salt dome caverns to natural gas storage service and the development of one new salt dome cavern for additional natural gas storage service, all within a permanent natural gas storage facility on a 160-acre tract of land owned by LA Storage in Cameron Parish, Louisiana. In addition to the storage caverns, LA Storage would construct and operate on-site compression facilities (Pelican Compressor Station) and up to six solution mining water supply wells at the storage facility on LA Storage's property. LA Storage would also construct and operate the following natural gas facilities in Cameron and Calcasieu Parishes, Louisiana: The Hackberry Pipeline, consisting of approximately 11.1 miles of 42-inch-diameter natural gas pipeline connecting the certificated PAPLC pipeline (CP18-7) to the natural gas storage caverns; the CIP Lateral, an approximately 4.9-mile-long, 42-inch-diameter natural gas pipeline extending from the existing CIP to the planned natural gas storage caverns; metering and regulating at the CIP and PAPLC interconnects; and an approximately 6.2-mile-long, 16-inch-diameter brine disposal pipeline that would transport brine from the caverns to four saltwater disposal wells located on two new pads north of the facility.

The Commission mailed a copy of the Notice of Availability of the Final Environmental Impact Statement for the Proposed Hackberry Storage Project to federal, state, and local government representatives and agencies; local libraries; newspapers; elected officials; Native American Tribes; and other interested parties. The final EIS is only available in electronic format. It may be viewed and downloaded from the FERC's website (www.ferc.gov), on the natural gas environmental documents page (https://www.ferc.gov/industries-data/natural-gas/environment/environmental-documents). In addition, the final EIS may be accessed by using the eLibrary link on the FERC's website. Click on the eLibrary link (https://elibrary.ferc.gov/eLibrary/search) select “General Search” and enter the docket number in the “Docket Number” field (i.e., CP21-44-000). Be sure you have selected an appropriate date range. For assistance, please contact FERC Online Support at FercOnlineSupport@ferc.gov or toll free at (866) 208-3676, or for TTY, contact (202) 502-8659.

Additional information about the Project is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to https://www.ferc.gov/ferc-online/overview to register for eSubscription.

Dated: April 8, 2022.
Kimberly D. Bose,
Secretary.

[FR Doc. 2022-07984 Filed 4-13-22; 8:45 am]

BILLING CODE 6717-01-P